DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before November 3, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: September 27, 2010.
Darrin A. King,
Director, Information Collection Clearance Division, Regulatory Information Management Services, Office of Management.

Office of Postsecondary Education

Type of Review: Extension.

Title of Collection: Annual Performance Report and Certification of Financial Need for the Jacob K. Javits Fellowship Program.

OMB Control Number: 1840-0630.

Agency Form Number(s): ED 40-1304.

Frequency of Responses: Annually.

Affected Public:

Not-for-profit institutions.

Total Estimated Number of Annual Responses: 100.

Total Estimated Annual Burden Hours: 400.

Abstract: The Jacob K. Javits Fellowship Program is authorized by Title VII, Part A, Subpart 1 of the Higher Education Act of 1965, as amended, and provides up to four years of financial assistance to students to undertake graduate study at the doctoral and Master of Fine Arts level in selected fields of arts, humanities, and social sciences. Fellows are selected on the basis of (1) superior academic ability demonstrated by their achievements and exceptional promise; and (2) financial need. The amounts of new and continuing awards are based on a student's financial need as determined by the Title IV, Part F needs analysis system. Each individual fellow's need must be assessed and reported each year, along with a continuing fellow's academic progress as determined by the institution. This collection is completed annually by grantee institutions to report on the fellows' progress and levels of financial need for the next academic year. The Department of Education uses this data to calculate fellowship amounts and the total grant amount sent to each institution for each fiscal year.

Requests for copies of the information collection submission for OMB review may be accessed from the RegInfo.gov Web site at http://www.reginfo.gov/public/do/PRAMain or from the Department's Web site at http://edicsweb.ed.gov, by selecting the “Browse Pending Collections” link and by clicking on link number 4358. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2010-24785 Filed 10-1-10; 8:45 am]

BILLING CODE 4000-01-P